DEPARTMENT OF THE INTERIOR

Bureau of Land Management

[LLNVSO0530 L5101.ER0000 LVRWF0900110; NVN-0865171; 10-08807; MO# 4500011976; TAS: 14X5017]

Notice of Intent To Prepare an Environmental Impact Statement for the Proposed Abengoa Solar Inc., Lathrop Wells Solar Facility, Amargosa Valley, Nye County, NV

AGENCY: Bureau of Land Management, Interior.

ACTION: Notice of Intent.

SUMMARY: In compliance with the National Environmental Policy Act of 1969, as amended (NEPA), and the Federal Land Policy and Management Act of 1976, as amended, the Bureau of Land Management (BLM) Pahrump Nevada Field Office, Southern Nevada District Office intends to prepare an Environmental Impact Statement (EIS) and by this notice is announcing the beginning of the scoping process to solicit public comments and identify issues.

DATES: This notice initiates the public scoping process for the EIS. Comments on issues may be submitted in writing until September 13, 2010. The date(s) and location(s) of any scoping meetings will be announced at least 15 days in advance through local news media, newspapers and the BLM Web site at: http://www.blm.gov/nv/st/en/fo/lvfo.html. Comments must be received prior to the close of the scoping period or 15 days after the last public meeting, whichever is later, to be included in the Draft EIS. Additional opportunities for public participation will be provided upon publication of the Draft EIS.

ADDRESSES: You may submit comments related to the Abengoa Solar Inc., Lathrop Wells Solar Facility by any of the following methods:

• E-mail: lwse_EIS@blm.gov

• Fax: (702) 515-5010 (attention: Gregory Helseth)

• Mail: Gregory Helseth, BLM Southern Nevada District Office, 4701 North Torrey Pines Drive, Las Vegas, Nevada 89130-2301.

• In person: At any EIS public scoping meeting.

Documents pertinent to this proposal may be examined at the BLM Southern Nevada District Office.

FOR FURTHER INFORMATION CONTACT: For further information and/or to have your name added to our mailing list, send requests to: BLM Southern Nevada District Office, Gregory Helseth, Renewable Energy Project Manager, Attn: Abengoa Lathrop Wells Solar Facility, 4701 North Torrey Pines Drive, Las Vegas, Nevada 89130; e-mail: Gregory_Helseth@blm.gov or lwse_EIS@blm.gov; or phone: (702) 515-5173

SUPPLEMENTARY INFORMATION: The applicant, Abengoa Solar Inc., has requested a right-of-way authorization for the construction, operation, maintenance, and termination of a solar energy generation project. The proposed Lathrop Wells Solar Facility project would consist of a concentrated solar power facility including a solar parabolic trough, photovoltaic panels, an electrical transmission substation, switchyard facilities, and a transmission line connecting to the existing Valley Electric Line south of the project. The proposed project would produce approximately 250 megawatts (MW) from a parabolic-trough, dry-cooled solar power plant with the option to expand the facility by adding a second 250-MW unit. Additionally, the proposal may include up to 20 MW of photovoltaic solar power. The proposed project would be located on approximately 5,336 acres of public lands in the Amargosa Valley, Nye County, Nevada. The purpose of the public scoping process is to ascertain the relevant issues that will influence the scope of the environmental analysis, including alternatives, and to guide the process for developing the EIS. At present, the BLM has identified the following preliminary issues: Threatened and endangered species, visual resource impacts, impacts to lands with wilderness characteristics, recreation impacts, socioeconomic effects, and cumulative impacts.

The BLM will use and coordinate the NEPA commenting process to satisfy the public involvement process for Section 106 of the National Historic Preservation Act (16 U.S.C. 470(f)) as provided for in 36 CFR 800.2(d)(3). Native American tribal consultations will be conducted, and Tribal concerns, including impacts on Indian trust assets, will be given due consideration. Federal, state, and local agencies, as well as individuals, organizations or tribes that may be interested or affected by the BLM's decision on this project are invited to participate in the scoping process and, if eligible, may request, or be requested by the BLM, to participate as a cooperating agency.

Before including your address, phone number, e-mail address, or other personal identifying information in your comment, you should be aware that your entire comment—including your personal identifying information—may be made publicly available at any time. While you can ask us in your comment to withhold your personal identifying information from public review, we cannot guarantee that we will be able to do so.

Patrick Putnam,
Field Manager, Pahrump Field Office.

[FR Doc. 2010-17264 Filed 7-14-10; 8:45 am]

BILLING CODE 4310-HC-P